DEPARTMENT OF AGRICULTURE

Food Safety and Inspection Service

[Docket No. FSIS-2008-0003]

National Advisory Committee on Meat and Poultry Inspection

AGENCY: Food Safety and Inspection Service, USDA.

ACTION: Notice of public meeting.

SUMMARY: The Food Safety and Inspection Service (FSIS) is announcing, pursuant to the Federal Advisory Committee Act, 5 U.S.C. App. 2, that the National Advisory Committee on Meat and Poultry Inspection (NACMPI) will hold a public meeting on February 5-6, 2008, to review and discuss: (1) The planned public health-based slaughter inspection system for young chickens and (2) how a similar approach could be used for inspection in processing and other slaughter establishments. Both issues will be presented to the full Committee. The Committee will then divide into two subcommittees to discuss both issues. Each subcommittee will provide a report of their comments and recommendations to the full committee before the meeting concludes on February 6, 2008.

DATES: The Committee will hold a public meeting on Wednesday, February 5, and Thursday, February 6, 2008, from 8:15 a.m. to 5:45 p.m. The subcommittees will hold open meetings during their deliberations and report preparation.

ADDRESSES: The meetings will take place at the Key Bridge Marriott, 1401 Lee Highway, Arlington, VA 22209; telephone, (703) 524-6400. The meeting agenda is available on the Internet at the NACMPI Web site, http://www.fsis.usda.gov/about_fsis/nacmpi/index.asp.

The NACMPI meeting agenda, together with information and resource materials on public health-based inspection, is also available on the Internet at, http://www.fsis.usda.gov/regulations_&_policies/Public_Health_Based_Inspection/index.asp.

FSIS welcomes comments on the topics discussed at the NACMPI public meeting. Comments may be submitted by any of the following methods:

Electronic mail: NACMPI@fsis.usda.gov.

Mail, including floppy disks or CD-ROMs: Send to National Advisory Committee on Meat and Poultry Inspection, United States Department of Agriculture, Food Safety and Inspection Service, 14th & Independence Avenue, SW., Room 1180—South Building, Washington, DC 20250.

Hand- or courier-delivered items: Deliver to Faye Smith at 14th & Independence Avenue, SW., Room 1180-S, Washington, DC. To deliver these items, the building security guard must first call (202) 720-9113.

Facsimile: Send to Faye Smith, (202) 720-5704. All submissions received must include the Agency name and docket number FSIS-2008-0003.

FOR FURTHER INFORMATION: Contact Robert Tynan for technical information at (202) 720-3884, or e-mail robert.tynan@fsis.usda.gov, and Faye Smith for meeting information at (202) 720-9113, Fax (202) 720-5704, or e-mail faye.smith@fsis.usda.gov. Persons requiring a sign language interpreter or other special accommodations should notify Faye Smith at the numbers above or by e-mail.

SUPPLEMENTARY INFORMATION:

Background

The NACMPI provides advice and recommendations to the Secretary of Agriculture pertaining to the Federal and State meat and poultry inspection programs, pursuant to sections 7(c), 24, 205, 301(a)(3), 301(a)(4), and 301(c) of the Federal Meat Inspection Act (21 U.S.C. 607(c), 624, 645, 661(a)(3), 661(a)(4), and 661(c)) and sections 5(a)(3), 5(a)(4), 5(c), 8(b), and 11(e) of the Poultry Products Inspection Act (21 U.S.C. 454(a)(3), 454(a)(4), 454(c), 457(b), and 460(e)).

The Administrator of FSIS is the chairperson of the Committee. Membership of the Committee is drawn from representatives of consumer groups; producers, processors, and marketers from the meat, poultry and egg product industries; State and local government officials; and academia. The current members of the NACMPI are: Ms. Kibbe M. Conti, Northern Plains Nutrition Consulting, Rapid City, SD; Mr. Brian R. Covington, Keystone Foods LLC, West Conshohocken, PA; Dr. Catherine N. Cutter, Pennsylvania State University, University Park, PA; Dr. James S. Dickson, Iowa State University, Ames, IA; Mr. Kevin M. Elfering, Minnesota Department of Agriculture, St. Paul, MN; Mr. Mike W. Finnegan, Montana Meat & Poultry Inspection Bureau, Helena, MT; Ms. Carol Tucker Foreman, Consumer Federation of America, Chevy Chase, MD; Dr. Andrea L. Grondahl, North Dakota Department of Agriculture, Bismarck, ND; Dr. Joseph J. Harris, Southwest Meat Association, Bryan, TX; Dr. Craig W. Henry, Food Products Association, Washington, DC; Ms. Cheryl D. Jones, Morehouse School of Medicine, Atlanta, GA; Mr. Michael E. Kowalcyk, DunnhumbyUSA LLC, Cincinnati, OH; Dr. Shelton E. Murinda, California State Polytechnic University, Pomona, CA; Dr. Edna Negron-Bravo, University of Puerto Rico, Mayaguez, PR; Dr. Michael L. Rybolt, National Turkey Federation, Washington, DC; Mr. Mark P. Schad, Schad Meats, Inc., Cincinnati, OH; and Dr. Stanley A. Stromberg, Oklahoma Department of Agriculture, Food, and Forestry, Oklahoma City, OK.

The Committee will review a draft report outlining a public health-based slaughter inspection system for young chickens. The components of the planned system are science-based. The focus of the inspection activities in this system are the points within the poultry slaughter process that have the greatest risk for causing microbial or other contamination on young chicken carcasses or otherwise rendering the carcasses adulterated. These focused activities will be performed within the regulatory framework of current FSIS inspection activities regarding verification of Hazard Analysis Critical Control Point systems, Sanitation SOPs, sanitation performance standards, and other regulatory requirements. In addition, FSIS will utilize its inspection resources, including performing Food Safety Assessments on poultry slaughter establishments, as a means of assessing the design of an establishment's inspection system and whether it is under control and functions effectively. FSIS is considering proposing to require that young chicken slaughter establishments that participate in this inspection system meet public health-based performance standards for microorganisms, such as Salmonella and Campylobacter. FSIS is also considering to propose that participating young chicken slaughter establishments meet a performance standard for generic E. coli. FSIS is considering this standard as a measure of sanitary conditions.

FSIS' traditional method of inspection for young chicken slaughter establishments was designed before microbial contamination was recognized as a leading cause of foodborne human illness. FSIS would like to update the inspection system for young chicken slaughter establishments so that it will function effectively with the significant advances that have been made in the processing methods employed by many of these establishments. FSIS believes that the inspection system that it is considering will be better able to protect public health because it will be better adapted to the methods being used in slaughter plants. FSIS activities will likely focus on establishments and points within the poultry slaughter process at which microbial contamination of young chicken carcasses is likely to occur. Similarly, FSIS believes that the performance standards it is considering will decrease the amount of microbial contamination occurring at the end of the poultry slaughter process.

An approach to inspection that focuses on points within an establishment that present the greatest likelihood of causing microbial and other contamination, and on those establishments with evidence of a loss of process control, could also be applied to processing establishments and to other slaughter establishments in addition to those that slaughter young chickens. The Committee will also review a draft report outlining how a public-health based inspection system could be applied to those establishments and the scientific basis for such a system.

All interested parties are welcome to attend the meetings and to submit written comments and suggestions concerning issues the Committee will review and discuss. The comments and the official transcript of the meeting, when they become available, will be kept in the FSIS Docket Room, U.S. Department of Agriculture, Food Safety and Inspection Service, 1400 Independence Avenue, SW., Room 2534, South Building, Washington, DC 20250, and posted on the Agency's NACMPI Web site, http://www.fsis.usda.gov/about_fsis/nacmpi/index.asp.

Members of the public will be required to register before entering the meeting.

Additional Public Notification

Public awareness of all segments of rulemaking and policy development is important. Consequently, in an effort to ensure that the public and in particular minorities, women, and persons with disabilities, are aware of this notice, FSIS will announce it on-line through the FSIS Web page located at http://www.fsis.usda.gov/regulations/2007_Notices_Index/index.asp. FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on January 22, 2008.
Alfred V. Almanza,
Administrator.

[FR Doc. 08-292 Filed 1-22-08; 11:39 am]

BILLING CODE 3410-DM-P